DEPARTMENT OF THE INTERIOR

Fish and Wildlife Service

[FWS-R1-ES-2011-N161; 10120-1112-0000-F2]

Incidental Take Permit; Auwahi Wind Energy Generation Facility, Maui, HI; Draft Habitat Conservation Plan and Draft Environmental Assessment

AGENCY: Fish and Wildlife Service, Interior.

ACTION: Notice of availability; receipt of permit application.

SUMMARY: Auwahi Wind Energy LLC (applicant), a subsidiary of Sempra Generation, has submitted an application to the U.S. Fish and Wildlife Service (Service) for an incidental take permit under the Endangered Species Act of 1973, as amended (ESA). The applicant is requesting an incidental take permit pursuant to the ESA to authorize take of two endangered Hawaiian bird species, one bat species, and one moth species. The permit application includes a draft Habitat Conservation Plan (HCP) describing the applicant's actions and the measures the applicant will implement to minimize, mitigate, and monitor incidental take of the Covered Species, and a draft Implementing Agreement (IA). The Service also announces the availability of a draft Environmental Assessment (EA) that has been prepared in response to the permit application in accordance with requirements of the National Environmental Policy Act (NEPA). We are making the permit application package and draft EA available for public review and comment.

DATES: All comments from interested parties must be received on or before November 21, 2011.

ADDRESSES: Please address written comments to Loyal Mehrhoff, Project Leader, Pacific Islands Fish and Wildlife Office, U.S. Fish and Wildlife Service, 300 Ala Moana Boulevard, Room 3-122, Honolulu, HI 96850. You may also send comments by facsimile to (808) 792-9580.

FOR FURTHER INFORMATION CONTACT: Dawn Greenlee, Fish and Wildlife Biologist, U.S. Fish and Wildlife Service (see ADDRESSES above); telephone (808) 792-9400.

SUPPLEMENTARY INFORMATION: The applicant is requesting an ITP to authorize take of the endangered Hawaiian petrel (uau, Pterodroma sandwichensis), endangered Hawaiian goose (nene, Branta sandvicensis), endangered Hawaiian hoary bat (opeapea, Lasiurus cinereus semotus), and the endangered Blackburn's sphinx moth (Manduca blackburni) (collectively these four species are hereafter referred to as the “Covered Species”).

Availability of Documents

You may request copies of the permit application, which includes the draft Habitat Conservation Plan (HCP), draft Implementing Agreement (IA), and draft Environmental Assessment (EA), by contacting the Service's Pacific Islands Fish and Wildlife Office (see FOR FURTHER INFORMATION CONTACT, above). These documents are also available electronically for review on the U.S. Fish and Wildlife Service Pacific Islands Fish and Wildlife Office Web site at http://www.fws.gov/pacificislands.

Comments and materials we receive, as well as supporting documentation we used in preparing the EA under NEPA, will become part of the public record and will be available for public inspection by appointment, during regular business hours. Before including your address, phone number, e-mail address, or other personal identifying information in your comment, you should be aware that your entire comment—including your personal identifying information—may be made publicly available at any time. While you can ask us in your comment to withhold your personal identifying information from public review, we cannot guarantee that we will be able to do so.

Background

Section 9 of the ESA (16 U.S.C. 1538) and Federal regulations prohibit the take of fish and wildlife species listed as endangered or threatened. The term “take” means to harass, harm, pursue, hunt, shoot, wound, kill, trap, capture, or collect, or to attempt to engage in any such conduct. However, under section 10(a) of the ESA 16 U.S.C. 1539(a), we may issue permits to authorize incidental take of listed fish and wildlife species. Incidental take is defined as take that is incidental to, and not the purpose of, carrying out an otherwise lawful activity. Regulations governing incidental take permits for threatened and endangered species are found at 50 CFR 17.32 and 17.22. If the permit is issued, the permittee would receive assurances under the Service's “No Surprises” regulations at 50 CFR 17.32(b)(5) and 50 CFR 17.22(b)(5).

The proposed Auwahi Wind Farm Project on the island of Maui would supply wind-generated electricity to the Maui Electric Company. The applicant has developed a draft HCP that addresses the incidental take of the four Covered Species that may occur as a result of the construction and operation of the Auwahi Wind Farm Project over a period of 25 years. In addition, the draft HCP addresses proposed measures the applicant will implement to minimize, mitigate, and monitor the impacts of incidental take of the Covered Species.

Covered Species

The Hawaiian petrel is a seabird that feeds in the open ocean and breeds on Maui. After spending the winter on the open ocean, adults return to breed at their colonial nesting grounds in the interior mountains of Maui, beginning in March and April. Fledglings (i.e., young birds on their first flight to the open ocean) fly from the nesting colony to the open ocean in the fall. Adults and fledglings are known to collide with tall buildings, towers, power lines, and other structures while flying at night between their nesting colonies and at-sea foraging areas. The Hawaiian goose occurs in the vicinity of the proposed wind energy facility and may collide with project structures. Acoustic monitoring indicates that the Hawaiian hoary bat flies in the area proposed for wind turbine development, and that the species may roost on the project site. The adult Blackburn's sphinx moth feeds on the nectar of native plants and lays its eggs on native and nonnative vegetation.

The proposed project will result in the permanent loss of 0.3 acre (0.1 hectare) of the Blackburn's sphinx moth native habitat and 27.2 acres (11 hectares) of degraded Blackburn's sphinx moth habitat. The Hawaiian petrel, Hawaiian goose, and the Hawaiian hoary bat are known to have collided with the existing wind turbine structures at the 30-megawatt (MW) 21-turbine Kaheawa Wind Power I project currently operating on Maui.

Proposed Plan

The activities proposed to be covered by the permit include the construction and operation of a new 21-MW, eight-turbine wind energy generation facility on the lower slopes of Haleakala Volcano in the southern half of the Auwahi ahupuaa (i.e., watershed), in the southeastern portion of the Island of Maui. The proposed facility will consist of eight wind turbine generators (WTGs), a maintenance building, an electrical substation, a battery energy storage system, an underground electrical collection system carrying electrical power from individual WTGs to the electrical substation, an overhead transmission line to connect the substation to the Maui Electric Company Ltd. transmission line, a permanent guyed meteorological monitoring tower, and service roads to connect the new WTGs and other facilities to existing highways. Improvements to portions of Kula Highway (referred to as Upcountry Piilani Highway) and Papaka Road would also be made in order to accommodate transportation of oversized project loads. The applicant has also applied for a State of Hawaii incidental take license under Hawaii State law. The draft HCP describes the impacts of take associated with those activities on the Covered Species, and proposes a program to minimize and mitigate take of each of the Covered Species.

The applicant is proposing mitigation measures on Maui that include: (1) Protection of a colony of breeding Hawaiian petrels on the slopes of Haleakala from cat, mongoose, and rat predators; (2) predator control or other management to conserve the Hawaiian goose at Haleakala National Park; (3) development of a permanent conservation easement and restoration of 350 acres of native forest habitat at Ulupalakua Ranch to conserve the Hawaiian hoary bat; (4) surveys to document the distribution and abundance of the Hawaiian hoary bat; and (5) restoration of Blackburn's sphinx moth habitat at Ulupalakua Ranch. This HCP incorporates adaptive management provisions to allow for modifications to the mitigation and monitoring measures as knowledge is gained during implementation.

Request for Comments

We specifically request information from the public on whether the permit application meets the statutory and regulatory requirements for issuing a permit, and identification of any aspects of the human environment that should be analyzed in the draft EA. We are also soliciting information regarding the adequacy of the HCP to minimize, mitigate, and monitor the proposed incidental take of the Covered Species and to provide for adaptive management, as evaluated against our permit issuance criteria found in section 10(a) of the ESA, 16 U.S.C. 1539(a), and 50 CFR 13.21, 17.22, and 17.32. In compliance with section 10(c) of the ESA (16 U.S.C. 1539(c)), we are making the permit application package available for public review and comment for 30 days (see DATES above).

We invite comments and suggestions from all interested parties and request that comments be as specific as possible. In particular, we request information and comments regarding the following issues:

(1) The direct, indirect, and cumulative effects that implementation of any reasonable HCP alternatives could have on endangered and threatened species;

(2) Other reasonable alternatives consistent with the purpose of the proposed HCP as described above, and their associated effects;

(3) Measures that would minimize and mitigate potentially adverse effects of the proposed action;

(4) Adaptive management or monitoring provisions that may be incorporated into the alternatives, and their benefits to listed species;

(5) Other plans or projects that might be relevant to this action;

(6) The proposed term of the Incidental Take Permit and whether the proposed conservation program would minimize and mitigate to the maximum extent practicable the incidental take that would be expected to occur over twenty years;

(7) Whether the HCP meets ESA section 10(a)(2)(B) (16 U.S.C. 1539 (a)(2)(B)) issuance criteria; and

(8) Any other information pertinent to evaluating the effects of the proposed action on the human environment.

The draft EA considers the direct, indirect, and cumulative effects of the proposed action of permit issuance, including the measures that will be implemented to minimize and mitigate such impacts. The EA contains an analysis of a no action alternative (no permit issuance and no measures by the applicant to reduce or eliminate the take of Covered Species), and an alternative with a reduced permit term.

Authority

This notice is provided under section 10(c) (16 U.S.C. 1539(c)) of the ESA and NEPA regulations (40 CFR 1506.6). The public process for the proposed Federal action will be completed after the public comment period, at which time we will evaluate the permit application, the HCP and associated documents (including the EA), and comments submitted thereon to determine whether or not the proposed action meets the requirements of section 10(a) (16 U.S.C. 1539(a)) of the ESA and has been adequately evaluated under NEPA.

Dated: September 8, 2011.
Hugh Morrison,
Acting Deputy Regional Director .

[FR Doc. 2011-25670 Filed 10-4-11; 8:45 am]

BILLING CODE 4310-55-P